ENVIRONMENTAL PROTECTION AGENCY

[ER-FRL-9032-3]

Environmental Impact Statements; Notice of Availability

Responsible Agency: Office of Federal Activities, General Information (202) 564-7146 or http://www.epa.gov/nepa.

Weekly receipt of Environmental Impact Statements (EISs)

Filed 03/13/2017 Through 03/17/2017

Pursuant to 40 CFR 1506.9

Notice

Section 309(a) of the Clean Air Act requires that EPA make public its comments on EISs issued by other Federal agencies. EPA's comment letters on EISs are available at: http://www.epa.gov/compliance/nepa/eisdata.html

EIS No. 20170037, Final, USFS, MT, Galton Vegetation Management, Review Period Ends: 04/27/2017, Contact: Ron Komac 406-296-2536 x7130

EIS No. 20170038, Draft, USFS, ID, Winschell Dugway Motorized Trail Project, Comment Period Ends: 05/08/2017, Contact: Jessica Taylor 208-557-5837

EIS No. 20170039, Final, USFS, OR, Green Mountain Project, Review Period Ends: 05/10/2017, Contact: Dean Schlichting 541-822-7214

EIS No. 20170040, Final, USFS, CA, Smith River NRA Restoration and Motorized Travel Management, Review Period Ends: 04/24/2017, Contact: Carol Spinos 707-441-3561

EIS No. 20170041, Draft, FHWA, IN, I-69 Section 6 Martinsville to Indianapolis, Comment Period Ends: 05/08/2017, Contact: Michelle Allen 317-226-7344

EIS No. 20170042, Draft Supplement, BOP, KY, Proposed U.S. Penitentiary and Federal Prison Camp, Letcher County, KY, Comment Period Ends: 05/08/2017, Contact: Issac Gaston 202-514-6470

EIS No. 20170043, Draft, HUD, NY, Coastal and Social Resiliency Initiatives for Tottenville Shoreline, Comment Period Ends: 05/08/2017, Contact: Daniel Greene 844-969-7474

Governor's Office of Storm Recovery (GOSR), New York State Housing Trust Fund Corporation is the lead agency for this project.

EIS No. 20170044, Final, USFS, CO, Snowmass Multi-Season Recreation Projects, Review Period Ends: 05/01/2017, Contact: Roger Poirier 970-945-3245

EIS No. 20170045, Draft Supplement, FTA, NJ, Northern Branch Corridor, Comment Period Ends: 05/23/2017, Contact: Donald Burns 212-668-2203

Dated: March 21, 2017.
Dawn Roberts,
Management Analyst, NEPA Compliance Division, Office of Federal Activities.

[FR Doc. 2017-05895 Filed 3-23-17; 8:45 am]

BILLING CODE 6560-50-P